DEPARTMENT OF THE INTERIOR

Bureau of Land Management

[WO-200-01-1020-00]

Science Advisory Board

AGENCY: Bureau of Land Management, Interior.

ACTION: Notice of public meeting.

SUMMARY: The Bureau of Land Management (BLM) announces a public meeting of the Science Advisory Board to develop a work plan for FY 2001-2002, to report on the implementation of the BLM Science Strategy, and to hold a joint meeting with the BLM Science Coordination Committee.

DATES: BLM will hold the public meeting on Wednesday, March 7, 2001, from 9 a.m. to 4 p.m. local time.

ADDRESSES: BLM will hold the public meeting at the University of Arizona, U.S. Geological Survey Environment and Natural Resources Building (Building No. 120), 520 North Park, Tucson, Arizona.

FOR FURTHER INFORMATION CONTACT: Lee Barkow, Bureau of Land Management, Denver Federal Center, Building 50, PO Box 25047, Denver, CO 80225-0047, 303-236-6454.

SUPPLEMENTARY INFORMATION: This notice is published in accordance with Section 9(a)(2) of the Federal Advisory Committee Act of 1972 (Pub. L. 92-463).

I. The Agenda for the Public Meeting Is as Follows

8 a.m. Opening Comments and Introductions

9:30 a.m. Working Session to Develop a Work Plan for FY 2001-2002

1 p.m. Report on the Implementation of the BLM Science Strategy

2 p.m. Discussion with the BLM Science Coordination Committee on Potential Joint Activities

3 p.m. Open Discussion of Science Topics

3:30 p.m. Public Comments

4 p.m. Adjourn

II. Public Comment Procedures

Participation in the public meeting is not a prerequisite for submittal of written comments from all interested parties. Your written comments should be specific and explain the reason for any recommendation. The BLM appreciates any and all comments, but those most useful and likely to influence decisions on BLM's use of science are those that are either supported by quantitative information or studies or those that include citations to and analysis of applicable laws and regulations. Except for comments provided in electronic format, commenters should submit two copies of their written comments, where practicable. The BLM will not necessarily consider comments received after the time indicated under the DATES section or at locations other than that listed in the ADDRESSES section.

In the event there is a request under the Freedom on Information Act (FOIA) for a copy of your comments, we intend to make them available in their entirety, including your name and address (or your e-mail address if you file electronically). However, if you do not want us to release your name and address (or e-mail address) in response to a FOIA request, you must state this prominently at the beginning of your comment. We will honor your wish to the extent allowed by the law. All submissions from organizations or businesses and from individuals identifying themselves as representatives or officials of organizations or business will be in their entirety, including names and addresses (or e-mail addresses).

Electronic Access and Filing Address: Commenters may transmit comments electronically via the Internet to: lee_barkow@blm.gov. Please include the identifier “Science4” in the subject of your message and your name and address in the body of your message.

III. Accessibility

The meeting sites are accessible to individuals with disabilities. An individual with a disability who will need an auxiliary aid or service to participate in the hearing, such as interpreting service, assistive listening device, or materials in an alternate format, must notify the person listed under FOR FURTHER INFORMATION CONTACT two weeks before the scheduled hearing date. Although BLM will attempt to meet a request received after that date, the requested auxiliary aid or service may not be available because of insufficient time to arrange it.

Dated: February 1, 2001.
Lee Barkow,
Director, National Science and Technology Center.

[FR Doc. 01-3077 Filed 2-5-01; 8:45 am]

BILLING CODE 4310-84-M